DEPARTMENT OF HEALTH AND HUMAN SERVICES

Centers for Disease Control and Prevention

[Program Announcement 01181]

Animal Models of Chronic Human Disease; Notice of Availability of Funds

A. Purpose

The Centers for Disease Control and Prevention (CDC) announces the availability of fiscal year (FY) 2001 funds for a grant to the University of North Carolina at Chapel Hill to support a research project on the use of animal modeling of genetic variations associated with human susceptibility to complex disease. This project addresses the “Healthy People 2010” focus area of Environmental Health.

B. Eligible Applicant

Assistance will be provided only to the University of North Carolina at Chapel Hill. No other applications are solicited.

Eligibility is limited to the University of North Carolina at Chapel Hill as directed by fiscal year 2001 Federal appropriations.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $808,868 is available in FY 2001 to support this one year project. The award will be made prior to September 30, 2001 for a 12-month project period. Funding estimates may change.

D. Where To Obtain Additional Information

This and other CDC announcements can be found on the CDC home page Internet address—http://www.cdc.gov. Click on “Funding” then “Grants and Cooperative Agreements.”

If you have questions after reviewing the contents of all the documents, business management technical assistance may be obtained from: Sharron P. Orum, Grants Management Specialist, Grants Management Branch, Procurement and Grants Office, Centers for Disease Control and Prevention, Program Announcement Number 01181, 2920 Brandywine Road, Room 3000, Atlanta, GA 30341-4146, Telephone: (770) 488-2716, Email address: SOrum@cdc.gov.

For program technical assistance, contact: Timothy Baker, Deputy Director, Office of Genetics and Disease Prevention, National Center for Environmental Health, Centers for Disease Control and Prevention, 1600 Clifton Road, NE., Mailstop K-28, Atlanta, GA 30333, Telephone: (770) 488-3235, Email address: TBaker@cdc.gov.

Dated: July 24, 2001.
John L. Williams,
Director, Procurement and Grants Office, Centers for Disease Control and Prevention (CDC).

[FR Doc. 01-18862 Filed 7-27-01; 8:45 am]

BILLING CODE 4163-18-P